DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Arizona:
Cochise (FEMA Docket No.: B-2447). | City of Sierra Vista (23-09-1001P). | The Honorable Clea McCaa II, Mayor, City of Sierra Vista, 1011 North Coronado Drive, Sierra Vista, AZ 85635. | Community Development Department, 1011 North Coronado Drive, Sierra Vista, AZ 85635. | Aug. 5, 2024 | 040017
Coconino (FEMA Docket No.: B-2451). | City of Flagstaff (23-09-0441P). | The Honorable Becky Daggett, Mayor, City of Flagstaff, 211 West Aspen Avenue, Flagstaff, AZ 86001. | Community Development Department, 211 West Aspen Avenue, Flagstaff, AZ 86001. | Oct. 15, 2024 | 040020
Maricopa (FEMA Docket No.: B-2447). | City of Avondale (23-09-0716P). | The Honorable Kenneth N. Weise, Mayor, City of Avondale, 11465 West Civic Center Drive, Avondale, AZ 85323. | Development and Engineering Services Department, 11465 West Civic Center Drive, Avondale, AZ 85323. | Aug. 9, 2024 | 040038
Maricopa (FEMA Docket No.: B-2451). | City of El Mirage (23-09-0223P). | The Honorable Alexis Hermosillo, Mayor, City of El Mirage, 10000 North El Mirage Road, El Mirage, AZ 85335. | City Hall, 10000 North El Mirage Road, El Mirage, AZ 85335. | Oct. 11, 2024 | 040041
Maricopa (FEMA Docket No.: B-2447). | City of Phoenix (24-09-0419P). | The Honorable Kate Gallego, Mayor, City of Phoenix, 200 West Washington Street, 11th Floor, Phoenix, AZ 85003. | Street Transportation Department, 200 West Washington Street, 5th Floor, Phoenix, AZ 85003. | Aug. 9, 2024 | 040051
Maricopa (FEMA Docket No.: B-2447). | City of Surprise (23-09-0209P). | The Honorable Skip Hall, Mayor, City of Surprise, 16000 North Civic Center Plaza, Surprise, AZ 85374. | Public Works Department, Engineering Development Services, 16000 North Civic Center Plaza, Surprise, AZ 85374. | Sep. 6, 2024 | 040053
Maricopa (FEMA Docket No.: B-2451). | Town of Youngtown (23-09-0223P). | The Honorable Michael LeVault, Mayor, Town of Youngtown, 12030 Clubhouse Square, Youngtown, AZ 85363. | Town Hall, 12030 Clubhouse Square, Youngtown, AZ 85363. | Oct. 11, 2024 | 040057
Maricopa (FEMA Docket No.: B-2447). | Unincorporated areas of Maricopa County (23-09-0209P). | Jack Sellers, Chair, Maricopa County Board of Supervisors, 301 West Jefferson Street, 10th Floor, Phoenix, AZ 85003. | Flood Control District of Maricopa County, 2801 West Durango Street, Phoenix, AZ 85009. | Sep. 6, 2024 | 040037
Maricopa (FEMA Docket No.: B-2451). | Unincorporated areas of Maricopa County (23-09-0223P). | Jack Sellers, Chair, Maricopa County Board of Supervisors, 301 West Jefferson Street, 10th Floor, Phoenix, AZ 85003. | Flood Control District of Maricopa County, 2801 West Durango Street, Phoenix, AZ 85009. | Oct. 11, 2024 | 040037
Pima (FEMA Docket No.: B-2447). | Town of Marana (23-09-1387P). | The Honorable Ed Honea, Mayor, Town of Marana, 11555 West Civic Center Drive, Marana, AZ 85653. | Engineering Department, 11555 West Civic Center Drive, Marana, AZ 85653. | Sep. 9, 2024 | 040118
Pinal (FEMA Docket No.: B-2447). | City of Apache Junction (23-09-1322P). | The Honorable Chip Wilson, Mayor, City of Apache Junction, 300 East Superstition Boulevard, Apache Junction, AZ 85119. | City Hall, 300 East Superstition Boulevard, Apache Junction, AZ 85119. | Aug. 28, 2024 | 040120
California:
Nevada (FEMA Docket No.: B-2447). | Town of Truckee (23-09-0444P). | The Honorable David Polivy, Mayor, Town of Truckee, 10183 Truckee Airport Road, Truckee, CA 96161. | Eric W. Rood Administrative Center, 950 Maidu Avenue, Nevada City, CA 95959. | Aug. 19, 2024 | 060762
San Diego (FEMA Docket No.: B-2447). | City of San Diego (23-09-0819P). | The Honorable Todd Gloria, Mayor, City of San Diego, 202 C Street, 11th Floor, San Diego, CA 92101. | Development Services Department, 1222 1st Avenue, MS 301, San Diego, CA 92101. | Aug. 16, 2024 | 060295
San Diego (FEMA Docket No.: B-2447). | City of San Diego (24-09-0077P). | The Honorable Todd Gloria, Mayor, City of San Diego, 202 C Street, 11th Floor, San Diego, CA 92101. | Development Services Department, 1222 1st Avenue, MS 301, San Diego, CA 92101. | Aug. 29, 2024 | 060295
Santa Clara (FEMA Docket No.: B-2447). | City of Cupertino (22-09-1032P). | The Honorable Sheila Mohan, Mayor, City of Cupertino, 10300 Torre Avenue, Cupertino, CA 95014. | Planning Department, 10300 Torre Avenue, Cupertino, CA 95014. | Sep. 5, 2024 | 060339
Santa Clara (FEMA Docket No.: B-2447). | City of Los Altos (22-09-1032P). | The Honorable Jonathan D. Weinberg, Mayor, City of Los Altos, 1 North San Antonio Road, Los Altos, CA 94022. | Public Works Department, 26379 Fremont Road, Los Altos, CA 94022. | Sep. 5, 2024 | 060341
Santa Clara (FEMA Docket No.: B-2447). | City of Mountain View (22-09-1032P). | The Honorable Pat Showalter, Mayor, City of Mountain View, P.O. Box 7540, Mountain View, CA 94039. | Public Works Department, 500 Castro Street, 1st Floor, Mountain View, CA 94041. | Sep. 5, 2024 | 060347
Santa Clara (FEMA Docket No.: B-2447). | Unincorporated Areas of Santa Clara County (22-09-1032P). | The Honorable Susan Ellenberg, President, Board of Supervisors, Santa Clara County, 70 West Hedding Street, 10th Floor, San Jose, CA 95110. | Santa Clara County Department of Planning and Development, 70 West Hedding Street, 7th Floor East Wing, San Jose, CA 95110. | Sep. 5, 2024 | 060337
Shasta (FEMA Docket No.: B-2447). | Unincorporated areas of Shasta County (23-09-0857P). | Kevin W. Crye, Chair, Shasta County, Board of Supervisors, 1450 Court Street, Suite 308B, Redding, CA 96001. | Shasta County Resource Management and Public Works Building, 1855 Placer Street, Redding, CA 96001. | Aug. 22, 2024 | 060358
Tulare (FEMA Docket No.: B-2447). | Unincorporated areas of Tulare County (22-09-1347P). | Larry Micari, Chair, Tulare County Board of Supervisors, 2800 West Burrel Avenue, Visalia, CA 93291. | Tulare County Resource Management Agency, Government Plaza, 5961 South Mooney Boulevard, Visalia, CA 93277. | Aug. 8, 2024 | 065066
Ventura (FEMA Docket No.: B-2447). | Unincorporated areas of Ventura County (24-09-0395P). | Kelly Long, Chair, Ventura County Board of Supervisors, 1203 Flynn Road, Suite 220, Camarillo, CA 93012. | Ventura County Public Works Agency, 800 South Victoria Avenue, Ventura, CA 93009. | Aug. 27, 2024 | 060413
Yolo (FEMA Docket No.: B-2451). | City of Winters (23-09-1251P). | The Honorable Bill Biasi, Mayor, City of Winters, 318 1st Street, Winters, CA 95694. | City Hall, 318 1st Street, Winters, CA 95694. | Oct. 10, 2024 | 060425
Yolo (FEMA Docket No.: B-2451). | Unincorporated areas of Yolo County (23-09-1251P). | Angel Barajas, Chair, Yolo County Board of Supervisors, 625 Court Street, Woodland, CA 95695. | Yolo County Department of Planning and Public Works, 292 West Beamer Street, Woodland, CA 95695. | Oct. 10, 2024 | 060423
Idaho:
Ada (FEMA Docket No.: B-2447). | City of Eagle (23-10-0615P). | The Honorable Brad Pike, Mayor, City of Eagle, 660 East Civil Lane, Eagle, ID 83616. | City Hall, 660 East Civil Lane, Eagle, ID 83616. | Aug. 15, 2024 | 160003
Blaine (FEMA Docket No.: B-2447). | Unincorporated areas of Blaine County (23-10-0498P). | Muffy Davis, Chair, Blaine County Board of Commissioners, 206 South 1st Avenue, Suite 300, Hailey, ID 83333. | Blaine County Courthouse Annex Building, 219 1st Avenue South, Suite 208, Hailey, ID 83333. | Aug. 1, 2024 | 165167
Nevada:
Clark (FEMA Docket No.: B-2451). | City of Henderson (23-09-1085P). | The Honorable Michelle Romero, Mayor, City of Henderson, 240 South Water Street, Henderson, NV 89015. | Public Works Department, 240 South Water Street, Henderson, NV 89015. | Oct. 3, 2024 | 320005
Clark (FEMA Docket No.: B-2447). | Unincorporated areas of Clark County (23-09-1159P). | Tick Segerblom, Chair, Clark County Board of Commissioners, 500 South Grand Central Parkway, 6th Floor, Las Vegas, NV 89155. | Clark County Public Works Office, 500 South Grand Central Parkway, 2nd Floor, Las Vegas, NV 89155. | Aug. 6, 2024 | 320003
Clark (FEMA Docket No.: B-2447). | Unincorporated areas of Clark County (23-09-1252P). | Tick Segerblom, Chair, Clark County Board of Commissioners, 500 South Grand Central Parkway, 6th Floor, Las Vegas, NV 89155. | Clark County Public Works Office, 500 South Grand Central Parkway, 2nd Floor, Las Vegas, NV 89155. | Sep. 9, 2024 | 320003
Independent City (FEMA Docket No.: B-2447). | City of Carson City (22-09-0387P). | The Honorable Lori Bagwell, Mayor, City of Carson City, 201 North Carson Street, Suite 2, Carson City, NV 89701. | Building Division, Permit Center, 108 East Proctor Street, Carson City, NV 89071. | Aug. 15, 2024 | 320001
Oregon: Benton (FEMA Docket No.: B-2447). | Unincorporated areas of Benton County (23-10-0749P). | Xanthippe Augerot, Chair, Benton County Board of Commissioners, 4500 Southwest Research Way, Corvallis, OR 97333. | Benton County Sheriff's Office, 180 Northwest 5th Street, Corvallis, OR 97333. | Jul. 31, 2024 | 410008

[FR Doc. 2024-25220 Filed 10-29-24; 8:45 am]

BILLING CODE 9110-12-P